DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before June 14, 2024.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on May 7, 2024.
Donald P. Burger,
Chief, General Approvals and Permits Branch.

Special Permits Data
Application No. | Applicant | Regulation(s) affected | Nature of the special permits thereof
21750-N | New Leaf, LLC | 173.54(a), 173.54(d), 173.301, 172.401, 173.166 | To authorize the transportation in commerce of certain safety devices from storage facilities to facilities engaged in recycling or other disposition of the safety devices. (modes 1, 2)
21751-N | New Pig Corporation | 172.600, 172.700(a), 172.400, 172.200, 172.300, 173.185(c)(1)(iii), 173.185(f) | To authorize the manufacture, mark, sale, and use of specialized metal drums for the transportation in commerce of the damaged, defective, or recalled lithium cells and batteries, including those contained in equipment or packed with equipment, using alternative hazard communication and where more than one battery may be present in the package. (modes 1, 2)
21756-N | BNSF Railway Company | 172.203(c)(2) | To authorize the transportation in commerce of materials identified in the 172.101 Hazardous Substance List as being a “reportable quantity” when a reportable quantity of the substance is not present with a package. (mode 2)
21757-N | BNSF Railway Company | 174.85 | To authorize the transportation in commerce of certain hazardous materials via rail with a reduced number of buffer cars. (mode 2)
21762-N | Ancon Marine | 172.301(c), 173.12(b)(3), 176.84 | To authorize the transportation of various waste cyanide lab packs. (mode 1)

[FR Doc. 2024-10570 Filed 5-14-24; 8:45 am]

BILLING CODE 4909-60-P